DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed new information collection of the “QCEW Business Supplement.” A copy of the proposed information collection request (ICR) can be obtained by contacting the individual listed below in the ADDRESSES section of this notice.

DATES: Written comments must be submitted to the office listed in the ADDRESSES section of this notice on or before April 5, 2021.

ADDRESSES: Send comments to Carol Rowan, BLS Clearance Officer, Division of Management Systems, Bureau of Labor Statistics, Room 4080, 2 Massachusetts Avenue NE, Washington, DC 20212. Written comments also may be transmitted by email to BLS_PRA_Public@bls.gov.

FOR FURTHER INFORMATION CONTACT: Carol Rowan, BLS Clearance Officer, at 202-691-7628 (this is not a toll free number). (See Addresses section.)

SUPPLEMENTARY INFORMATION:

I. Background

The Bureau of Labor Statistics (BLS) intends to implement a new collection for a QCEW Business Supplement (QBS). Through the QBS, the BLS will be able to capture information on the US economy in a more efficient and timely manner than is currently possible. The QBS is intended to be a versatile collection instrument that will allow BLS to quickly collect and publish information so that stakeholders and data users can understand the impact of specific events on the US economy as they occur, improving the relevancy of the data.

The QBS is designed to incorporate new questionnaires as the need arises based on topics of relevance. BLS initially published a notice requesting comments on this collection in 85 FR 3426, on January 21, 2020, but the collection was postponed so the BLS could collect the Business Response Survey (BRS). The initial collection under the QBS will be a follow-up to the BRS, conducted in 2020, which captured information about changes to businesses operations, employment and workforce flexibilities, and benefits that occurred as a result of the onset of the Coronavirus pandemic. The BRS was a one-time collection which provided critical information on the U.S. business response to the Coronavirus pandemic to help provide policy makers and data users with additional information to help inform decisions. This follow-up survey to the BRS, under the QBS collection, will collect information on how establishments are coping with the transition from the height of the pandemic into a period of economic recovery.

II. Method of Collection

The BLS will use the Annual Refiling Survey (ARS) as a platform for conducting the QBS. Each year, the BLS Quarterly Census of Employment and Wages (QCEW) Program conducts the ARS by reaching out to approximately 1.2 million establishments requesting verification of their main business activity, and their mailing and physical location addresses. The fully web-based ARS allows for an accelerated timeframe for collection and provides a low-cost platform for conducting the quick, short surveys of the QBS. The QBSs accompanying the ARS will have little data collection overhead, leveraging the respondent contact process undertaken as part of the production ARS. QBS Respondents already logged into the ARS secure website will be directed to a QBS and asked to answer a limited number of additional survey questions after completing the ARS.

II. Current Action

Office of Management and Budget clearance is being sought for the QCEW Business Supplement (QBS).

The QBS, based on the ARS data collection platform, will allow BLS to leverage the multitude of information already known about the sample units to allow for targeted sampling. It also will permit BLS to target only the units meeting the specific set of characteristics desired allowing BLS to delve into specific areas of economic interest without burdening establishments which do not meet the specific targeted features.

The QBS is designed to encourage a fast response and minimize respondent burden on the public by limiting the number of questions on each survey and by asking questions that respondents should be able to answer without research or referring to records. In this manner, BLS can provide information that is needed quickly and is not collected elsewhere.

The QBS is designed to incorporate new questionnaires as the need for data arises, as frequently as twice a year. The BLS plans to conduct multiple small surveys under the QBS clearance. The initial survey will focus on how establishments are coping with the current status of the Coronavirus pandemic and the transition period that they are currently experiencing. Questions will cover a range of establishment topics including changes in telework, paid sick leave, demand for products and services, changes in products or services ordered, rehiring activities, recruitment activities, mandated closures, and government assistance.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: QCEW Business Supplement.

OMB Number: 1220-NEW.

Type of Review: New Collection.

Agency: Bureau of Labor Statistics.

Affected Public: Businesses or other for-profit institutions, not-for-profit institutions, and farms.

Total Respondents: 150,000.

Frequency: One time.

Total Responses: 150,000.

Average Time per Response: 10 minutes.

Estimated Total Burden Hours: 25,000 hours.

Comments submitted in response to this notice will be summarized and/or included in the request for Office of Management and Budget approval of the information collection request; they also will become a matter of public record.

Signed at Washington, DC, January 28, 2021.
Mark Staniorski,
Chief, Division of Management Systems.

[FR Doc. 2021-02208 Filed 2-2-21; 8:45 am]

BILLING CODE 4510-24-P